NUCLEAR REGULATORY COMMISSION

[Docket No. 030-03754]

Environmental Assessment and Finding of No Significant Impact Related to the License Amendment Request of ABB Prospects, Inc. Materials License No. 06-00217-06 for the CE Windsor Site, Building Complexes 2, 5, and 17 in Windsor, CT

AGENCY: Nuclear Regulatory Commission.

ACTION: Notice of Environmental Assessment and Finding of No Significant Impact related to the license amendment request of ABB Prospects, Inc. Materials License No. 06-00217-06 for the CE Windsor Site, Building Complexes 2, 5 and 17 in Windsor, Connecticut.

SUMMARY: The U.S. Nuclear Regulatory Commission (NRC) is considering the issuance of a license amendment to ABB Prospects, Inc. Materials License No. 06-00217-06 to authorize dismantlement and deconstruction to grade level of the buildings in Building Complexes 2, 5, and 17 at the CE site in Windsor, CT and has prepared an Environmental Assessment in support of this action. Based upon the Environmental Assessment, the NRC has concluded that a finding of No Significant Impact is appropriate, and, therefore, an Environmental Impact Statement is unnecessary.

FOR FURTHER INFORMATION CONTACT: James Kottan, Decommissioning and Laboratory Branch, Division of Nuclear Materials Safety, NRC Region I, King of Prussia, PA 19406; telephone (610) 337-5214 of e-mail jjk@nrc.gov.

SUPPLEMENTARY INFORMATION: The U.S. Nuclear Regulatory Commission (NRC) is considering amending Byproduct Materials License Number 06-00217-06 issued to ABB Prospects, Inc. (ABB) to authorize the dismantlement and deconstruction of Building Complexes 2, 5, and 17 at the ABB site in Windsor, Connecticut.

1.0 Introduction

In a letter dated December 31, 2001, ABB submitted a request to amend Byproduct Materials License Number 06-00217-06 to obtain authorization to dismantle and deconstruct Building Complexes 2, 5, and 17 and to remove all impacted sub-grade structures and systems. In subsequent letters dated February 22, 2002, March 8, 2002, and August 9, 2002, ABB modified the original license amendment request. The request currently before the NRC is limited to dismantlement and deconstruction of the buildings of Building Complexes 2, 5, and 17 to grade level only. References hereafter to the license amendment request are to the request as amended through the August 9, 2002 letter. This environmental assessment (EA) is being performed to evaluate the environmental impacts of ABB's request for NRC's approval for ABB to conduct decommissioning only at or above the basement slabs and at or above the floors of the three Complexes.

In accordance with the conditions currently described in Byproduct Materials License Number 06-00217-06, the licensee has been performing remediation of residual radioactivity and other industrial contaminants from internal building equipment and components for Building Complexes 2, 5, and 17. The radioactive contamination at ABB's Windsor, Connecticut site consists of soils and building and equipment surfaces contaminated with uranium and by-product material from licensed operations that occurred from the late 1950s until 2001.

The licensee's December 31, 2001 license amendment request was noticed in the Federal Register on April 10, 2002 (67 FR 28610). This Federal Register notice also provided an opportunity for a hearing on this licensing action.

1.1 Proposed Action

The proposed action is to amend NRC Byproduct Materials License Number 06-00217-06 issued to ABB to allow for the dismantlement and deconstruction of the buildings in Building Complexes 2, 5, and 17. The buildings will be taken down to grade level only and no work will be performed on the building slabs/foundations or sub-grade structures and systems. ABB plans to use dismantlement and deconstruction techniques, such as cutting and shearing in taking the buildings down. Manual jackhammers, equipment mounted jackhammers (hoe ram), skid-steer loader or shears will be used to remove/dismantle and to size reduce concrete or concrete masonry unit (CMU) structures. CMU walls may also be brought down using pushover techniques. Steel reinforcement bars will be torch-cut, sheared, or saw-cut as required for dismantlement, leveling, or size reduction purposes.

1.2 Purpose and Need for the Proposed Action

NRC regulations require licensees to begin timely decommissioning of their sites, or any separate buildings that contain residual radioactivity, upon cessation of licensed operational activities, in accordance with 10 CFR 30.36(d). The purpose of the proposed action is to reduce residual radioactivity at ABB's Windsor, Connecticut site. Additionally, due to the commercial value of the site property, the licensee plans to eventually return the land to beneficial unrestricted use. The proposed licensing action will support such an ultimate goal. NRC is fulfilling its responsibilities under the Atomic Energy Act and the National Environmental Policy Act to make a decision on a proposed license amendment for building dismantlement and deconstruction that ensures protection of the public health and safety and the environment.

2.0 Facility Description/Operating History

2.1 Site Local and Physical Description

The CE Windsor site is located in the Town of Windsor, Connecticut, 13 km (8 miles) north of Hartford, Connecticut. This site is industrially zoned by the Town of Windsor, and is located in a Mixed Land Use area of Hartford County. The site covers approximately 600 acres. Much of the northern and western portions of the property are wooded. Approximately, one third of the property is developed with buildings, infrastructure, and maintained landscaping. ABB anticipates that future uses of the site will be consistent with its current use (commercial, light industrial uses). The current land use in the surrounding area is a mixture of commercial, light industrial, warehousing, office park, residential, municipal landfill, and commercial farming. Surface water bodies on site include the Great Pond, located on the southwestern end of the property, the Small Pond, located East of the Site buildings, and the Goodwin Pond and the Site Brook, both located on the northeastern portion of the property. The regional geology in Windsor is mapped within the Central Valley landscape of the Newark Terrain. A full description of the site and its characteristics is given in the ABB License Amendment Request for demolition of Building Complexes 2, 5, and 17.

2.2 Facility Operating History

From the late1950's until 2001, ABB Prospects, Inc. Combustion Engineering site was involved in the research, development, engineering, production, and servicing of nuclear systems and fuel. Nuclear research was conducted in the Building 2 Complex and the Building 5 Complex. Nuclear fuel was manufactured in the Building 17 Complex.

The Building 2 Complex was constructed in the mid 1950's and is located in the central area of the CE site. The Building 2 Complex consists of buildings 1, 1A, 2, and 2A. Uses for these buildings included nuclear research and development and commercial nuclear power plant outage support. The Building 5 Complex is located in the southern portion of the CE site and includes buildings 5, 15, 16, and 18. Building 5 was constructed in 1957, building 18 was constructed in 1968 and building 16 was constructed in 1975. Building 15 was a carpentry shop and was not used for nuclear materials work. Building 5 was a research and development laboratory that included a materials development laboratory, a nuclear fuel manufacturing laboratory, and an engineering development laboratory. Building 16 was used to test boronometers, and building 18 contained a scale model reactor test loop to test the fluid mechanics of commercial nuclear reactors. The Building 17 Complex consists of only building 17 which was constructed in 1967 and used for manufacturing commercial nuclear fuel. Commercial nuclear fuel manufacturing ceased in 1993, and the building was renovated and used for commercial nuclear power plant outage support work.

3.0 Alternatives to the Proposed Action

The only alternatives to the proposed action of dismantlement and deconstruction of Building Complexes 2, 5, and 17 are decontamination of the buildings without dismantlement and deconstruction and no action. The no action alternative is not acceptable because it will result in violation of the NRC's Timeliness Rule (10 CFR 30.36d), which requires licensees to decommission their facilities when licensed activities cease, and to request termination of their radioactive materials license. The no action alternative would keep radioactive material on site without disposal. Additionally, the impact of the proposed action encompasses the alternative action of decontaminating and maintaining the buildings on site. Maintaining the buildings on site would provide negligible, if any, environmental benefit, but would greatly reduce options for future use of the site. Therefore, these alternative are not considered to be reasonable and are not analyzed further in the EA.

4.0 Environmental Impacts

The NRC staff has reviewed the license amendment request for the ABB facility in Windsor, Connecticut and examined the impacts of this license amendment request. Potential impacts include water resource impact (e.g., water may be used for dust control), air quality impacts from dust emissions, temporary local traffic impacts resulting from transporting the building debris offsite, beneficial local economic effects due to the creation of jobs to perform dismantlement and deconstruction, human health impacts, noise impacts from equipment operation, scenic quality impacts, and waste management impacts.

Based on its review, the staff has determined that no surface water or ground water impacts are expected from building dismantlement and deconstruction down to the building slabs and foundations at grade. Additionally, the staff has determined that significant air quality, noise, land use, and off-site radiation exposure impacts are also not expected. No significant air quality impacts are anticipated because of the contamination controls and dust suppression techniques that will be implemented by ABB during building dismantlement and deconstruction. Asbestos waste, primarily from building siding, will be generated during building dismantlement and deconstruction. All removal and disposal of asbestos building siding will take place in accordance with applicable Federal and State regulations. In addition, the environmental impacts associated with the dismantlement and deconstruction of the buildings in Building Complexes 2, 5, and 17 are bounded by the impacts evaluated by NUREG-0586, “Final Generic Environmental Impact Statement (GEIS) on Decommissioning of Nuclear Facilities'' (NRC, 1988). Generic impacts for this type of dismantlement and deconstruction process were previously evaluated and described in this GEIS, which concludes that the environmental consequences are small. The risk to human health from the transportation of all radioactive material in the U.S. was evaluated in NUREG-0170, “Final Environmental Statement on the Transportation of Radioactive Materials by Air and Other Modes'' (NRC, 1977). The principal radiological environmental impact during normal transportation is direct radiation exposure to nearby persons from radioactive material in the package. The average annual individual dose from all radioactive material transportation in the U.S. was calculated to be approximately 0.5 mrem, well below the 10 CFR 20.1301 limit of 100 mrem for a member of the public. Additionally, ABB estimates that 1 to 2 truck loads of demolition waste will leave the site per working day compared to an average daily traffic flow of approximately 10,000 vehicles per day on Day Hill Road. The trucks will then travel on Interstate 91 to their intended destinations. Thus, waste management and transportation impacts from the building dismantlement and deconstruction will not be significant.

Occupational health was also considered in the Final Environmental Impact Statement on the Transportation of Radioactive Material by Air and Other Modes (NRC, 1977). The Department of Transportation (DOT) regulations in 49 CFR 177.842(g) require that the radiation dose may not exceed 0.02 mSv (2 mrem) per hour in any position normally occupied by an individual in a motor vehicle. Shipment of these materials would not affect the assessment of environmental impacts or the conclusions in the Final Environmental Impact Statement on the Transportation of Radioactive Material by Air and Other Modes (NRC, 1977).

The Staff also finds that the proposed license amendment will meet the radiological release criteria of Regulatory Guide 1.86, “Termination of Operating Licenses for Nuclear Reactors,” for release of material from the ABB site.

ABB will maintain an appropriate level of radiation protection staff, procedures, and capabilities, and, through its on-site Radiation Safety Officer, will implement an acceptable program to keep exposure to radioactive materials as low as reasonably achievable (ALARA). As previously noted, ABB has submitted a license amendment request describing the work to be performed, and work activities are not anticipated to result in radiation exposures to the public in excess of ten percent of the 10 CFR 20.1301 limits. The Connecticut Historical Commission has determined that there will be an historical impact from the proposed action, but that no prudent or feasible alternative exists relative to the proposed action. See Section 7.0 of this EA.

4.1 Cumulative Impacts

The NRC has evaluated whether cumulative environmental impacts could result from an incremental impact of the proposed action when added to other past, present, or reasonably foreseeable future actions in the area. The proposed NRC approval of the License Amendment, when combined with known effects on resource areas at the site, including future further site remediation, are not anticipated to result in any cumulative impacts at the site.

5.0 Mitigation Measures

The dismantlement and deconstruction of Building Complexes 2, 5, and 17 are not expected to have any significant adverse environmental impact. The license amendment request submitted by ABB contains mitigation measures to further ensure that the requested licensing action will not have any adverse environmental impact.

ABB plans to implement procedural controls, such as the use of less aggressive dismantlement and deconstruction techniques, including cutting and shearing, to minimize the generation of fugitive emissions. Other engineering controls, including water sprays, will also be utilized to control fugitive emissions and visible dust, if needed. In addition, ABB has agreed to perform the mitigative measures proposed by the Connecticut Historical Commission regarding the historical impact of the proposed action.

Erosion and sediment control will be provided, if necessary, in accordance with best management practices, regulatory guidance, and good engineering practices. This will include structural features, stabilization, and storm water management. The controls may be temporary or permanent.

6.0 Monitoring

The license amendment request submitted by ABB described the effluent/environmental monitoring that will take place during building dismantlement and deconstruction. This description included not only the routine effluent/environmental monitoring program that ABB presently has in place, but also the additional sampling that will take place during dismantlement and deconstruction. The additional air sampling will include air samples from three locations at or near the boundary of the particular dismantlement and deconstruction activity. The locations for the air samplers will be chosen with considerations of meteorological conditions and the dismantlement and deconstruction activity taking place in order to sample the maximum airborne concentrations. This air sampling data will be used by ABB to demonstrate that any effluent from the proposed building dismantlement and deconstruction will be limited in accordance with NRC requirements in accordance with 10 CFR part 20.

7.0 Agencies and Individuals Consulted

The NRC staff has prepared this EA with input from the Connecticut Historical Commission, by letters dated August 19, 2002 and August 26, 2002, and the U.S. Fish and Wildlife Service, by letter dated August 21, 2002. In its letter dated August 19, 2002, the Connecticut Historical Commission noted that buildings 1 and 2 of Building Complex 2 “demonstrate architectural and engineering uniqueness, retain their essential functional characteristics, and possess historic significance with respect to commercial and military-related nuclear research and development”. The Connecticut Historical Commission also stated in this letter that “no feasible and prudent alternative exists which would facilitate retention and adaptive use of the extant structures”. Therefore, the Connecticut Historical Commission proposed two mitigative measures: photographic documentation, to the standards of the State Historic Preservation Office, of buildings 1 and 2; and development of a public education component regarding Combustion Engineering's nuclear research at the CE site. ABB has agreed to perform the mitigative measures. In its letter dated August 26, 2002 the Connecticut Historical Commission noted that the first mitigative step had been competed by ABB, to the satisfaction of the State, and offered “no objection to the expeditious furtherance of the proposed remediation and demolition of these historic structures”. The U.S. Fish and Wildlife Service indicated, in its letter, that on the basis of current information, no current Federally identified or proposed threatened or endangered species under U.S. Fish and Wildlife Service jurisdiction are known to occur in the site project area. The staff provided a draft of this Environmental Assessment to the State of Connecticut for review. In its letter dated September 23, 2002, which commented on draft EA, the State of Connecticut's only comment was that an additional alternative exists regarding the proposed action. This additional alternative is the decontamination of the existing structures without demolition of the structures. Section 3.0 of this EA was revised to reflect the State's comment.

8.0 Conclusion

NRC believes that the approval of the license amendment will not cause any significant impacts on the human environment that will not be mitigated and is protective of human health. The NRC staff has concluded that exposures to workers will be low and well within the limits specified in 10 CFR 20. Dismantlement and deconstruction of the buildings in Building Complexes 2, 5, and 17, as proposed by the amendment, will result in a reduction of radioactive material at the ABB site in Windsor, CT, which will reduce the long term potential for release of radiological contamination to the environment. No radiologically contaminated effluents are expected during building dismantlement and deconstruction. No radiation exposure to any member of the public is expected, and public exposure will therefore also be less than the applicable public exposure limits of 10 CFR part 20.

9.0 List of Preparers

This Environmental Assessment was prepared entirely by the following NRC staff.

James Kottan, ABB Project Manager, Decommissioning and Laboratory Branch, Division of Nuclear Materials Safety, Region I, Decommissioning Issues.

Anthony Huffert, Senior Health Physicist, Division of Waste Management, Office of Nuclear Materials Safety and Safeguards (NMSS), Dose Assessment.

Amir Kouhestani, Project Manager, Division of Waste Management, NMSS, Decommissioning Issues.

Melanie Wong, Environmental Project Manager, Division of Waste Management, NMSS, Environmental Issues.

10.0 List of References

The licensee's December 31, 2001 license amendment request was noticed in the Federal Register on April 10, 2002 (67 FR 28610). This Federal Register notice also provided an opportunity for a hearing on this licensing action.

The application for the license amendment and supporting documentation are available for inspection at NRC's Public Electronic Reading Room at http://www.nrc.gov/NRC/ADAMS/index.html.

NUREG-0170, 1977. Final Environmental Impact Statement on the Transportation of Radioactive Material by Air and Other Modes, U.S. Nuclear Regulatory Commission, Washington, DC.

NUREG-0586, 1988. Final Generic Environmental Impact Statement on the Decommissioning of Nuclear Facilities, U.S. Nuclear Regulatory Commission, Washington, DC.

NUREG-1496, “Generic Environmental Impact Statement in Support of Rulemaking on Radiological Criteria for License Termination of NRC-Licensed Nuclear Facilities” NRC: Washington, DC July 1997.

NUREG-1748, “Environmental Review Guidance for Licensing Actions Associated with NMSS Programs, Draft Report for Interim Use and Comment” NRC: Washington, DC September 2001.

REGULATORY GUIDE—1.86, “Termination of Operating Licenses for Nuclear Reactors”, NRC: Washington, DC June 1974.

ABB Building Permit Application (and Approval) for demolition of the buildings of Building Complexes 2, 5, and 17, Town of Windsor, Connecticut November 16, 2001.

Asbestos Abatement Registration Form for ABB filed with the Connecticut Department of Public Health.

Finding of No Significant Impact

Pursuant to 10 CFR part 51, NRC has prepared the above environmental assessment related to a license amendment to Materials License No. 06-00217-06 authorizing dismantlement and deconstruction to grade level of the buildings in Building Complexes 2, 5, and 17. On the basis of the above environmental assessment, the NRC has concluded that this licensing action would not have any significant effect on the quality of the human environment, and therefore, an environmental impact statement is not required.

The licensee's request for the proposed action was previously noticed in the Federal Register on April 10, 2002 (67 FR 28610) along with the notice of an opportunity to request a hearing.

ABB Prospects, Inc. request for the proposed action, the NRC's Environmental Assessment, and any other related documents, if any, are available for inspection and copying for a fee in the Region I Public Document Room, 475 Allendale Road, King of Prussia, PA 19406. The documents may also be viewed at NRC's Public Electronic Reading Room at http://www.nrc.gov/NRC/ADAMS/index.html.

Dated at King of Prussia, Pennsylvania, this 3rd day of October, 2002.
For the Nuclear Regulatory Commission.
Francis M. Costello,
Deputy Director, Division of Nuclear Materials Safety, RI.

[FR Doc. 02-26447 Filed 10-16-02; 8:45 am]

BILLING CODE 7590-01-P